DEPARTMENT OF TRANSPORTATION

Office of the Secretary

Aviation Proceedings, Agreements Filed the Week Ending September 15, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-25832.

Date Filed: September 12, 2006.

Parties: Members of the International Air Transport Association.

Subject: TC1 Longhaul and Mail Vote 499; TC1 Teleconference, 24-26 July 2006 (Memo 0348); Policy Group Report: TC1 Policy Group Report (Memo 0352); Intended effective date: 1 November 2006.

Docket Number: OST-2006-25833.

Date Filed: September 12, 2006.

Parties: Members of the International Air Transport Association.

Subject: TC1 Areawide and Mail Vote 500; TC1 Teleconference, 24-26 July 2006 (Memo 0349); Policy Group Report: TC1 Policy Group Report (Memo 0352); Intended effective date: 1 January 2007.

Docket Number: OST-2006-25834.

Date Filed: September 12, 2006.

Parties: Members of the International Air Transport Association.

Subject: TC1 Longhaul and Mail Vote 501; TC1 Teleconference, 24-26 July 2006 (Memo 0350); Policy Group Report: TC1 Policy Group Report (Memo 0352); Technical correction: TC1 Longhaul and Mail Vote 501 Resolutions; TC1 Teleconference, 24-26 July 2006 (Memo 0353); Intended effective date: 1 January 2007.

Docket Number: OST-2006-25838.

Date Filed: September 12, 2006.

Parties: Members of the International Air Transport Association.

Subject: TC1 Within South America and Mail Vote 502; TC1 Teleconference, 24-26 July 2006 (Memo 0351); Policy Group Report: TC1 Policy Group Report (Memo 0352); Intended effective date: 1 January 2007.

Docket Number: OST-2006-25839.

Date Filed: September 12, 2006.

Parties: Members of the International Air Transport Association.

Subject: Mail Vote 506—Resolution 010y; TC31 North & Central Pacific; Between Japan and North America, Caribbean; Special Passenger Amending Resolution 010y; Between Mexico and Japan (Memo 0377); Intended effective date: 15 November 2006.

Docket Number: OST-2006-25840.

Date Filed: September 12, 2006.

Parties: Members of the International Air Transport Association.

Subject: Mail Vote 507—Resolution 010z; TC3 Japan, Korea-South East Asia; Special Passenger Amending Resolution between Japan, Korea and South East Asia; Intended effective date: 20 September 2006.

Renee V. Wright,
Program Manager, Docket Operations, Federal Register Liaison.

[FR Doc. E6-16873 Filed 10-11-06; 8:45 am]

BILLING CODE 4910-9X-P